DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (P.L. 92-463), the Agency for Toxic Substances and Disease Registry (ATSDR) announces the following subcommittee and committee meetings.

Name: Community/Tribal Subcommittee.

Times and Dates: 9 a.m.-5:15 p.m., May 1, 2001, 8:30 a.m.-4:30 p.m., May 2, 2001.

Place: Atlanta Marriott Century Center Hotel, 2000 Century Boulevard, NE., Atlanta, Georgia 30345.

Status: Open to the public, limited by the available space. The meeting room accommodates approximately 50 people.

Purpose: This subcommittee brings to the Board advice, citizen input, and recommendations on community and tribal programs, practices, and policies of the Agency.

Matters To Be Discussed: Agenda items include an update on Action Items and Recommendations from previous meeting, review of Tracking System, and, selection of new tribal members to CTS; presentation by IHS; overview of DHEP community health education; presentation of NEJAC activities; update on Alaskan Native Subsistence and Dietary Contaminants Program; presentation of Disease Registry activities of ATSDR; review of Task Group progress report; discussion on health concerns of depleted uranium; and, a review of Federal Facilities Summary Documentation.

Name: Board of Scientific Counselors, ATSDR.

Times and Dates: 8:30 a.m.-5 p.m., May 3, 2001, 8:30 a.m.-12:15 p.m., May 4, 2001.

Place: Atlanta Marriott Century Center Hotel, 2000 Century Boulevard, NE., Atlanta, Georgia 30345.

Status: Open to the public, limited by the available space. The meeting room accommodates approximately 50 people.

Purpose: The Board of Scientific Counselors, ATSDR, advises the Secretary; the Assistant Secretary for Health; and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters To Be Discussed: Agenda items will include a review of Action Items; ATSDR updates; review of Alaska Native Subsistence and Dietary Contaminants Program; update of health care provider education activities, accomplishments, and, strategy; update on ATSDR's Strategic Planning Process; review of the National Report on Human Exposure to Environmental Chemicals; discussion on exposure investigations and biomarkers; update on new developments in Environmental Justice and Health Disparities; summary of Community/Tribal Subcommittee meeting, issues, and Recommendations; discussion of the Shared Vision of Environmental Health joint meeting of ATSDR and NCEH Boards, and, an update on PEW Commission activities and ATSDR involvement.

Written comments are welcomed and should be received by the contact person listed below prior to the opening of the meeting.

Agenda items are subject to change as priorities dictate.

Contact Person for More Information: Robert Spengler, Sc.D., Executive Secretary, BSC, ATSDR, M/S E-28, 1600 Clifton Road, NE, Atlanta, Georgia 30333, telephone 404/639-0708.

The Director, Management Analysis and Services Office, has been delegated the authority to sign Federal Register Notices pertaining to announcements of meetings and other committee management activities, for both the Centers for Disease Control and Prevention and the Agency for Toxic Substances and Disease Registry.

Dated: April 3, 2001.
Carolyn J. Russell,
Director, Management Analysis and Services Office, Centers for Disease Control and Prevention.

[FR Doc. 01-8882 Filed 4-10-01; 8:45 am]

BILLING CODE 4163-70-P